DEPARTMENT OF TRANSPORTATION

Office of the Secretary

Aviation Proceedings, Agreements filed during the week ending May 19, 2000

The following Agreements were filed with the Department of Transportation under the provisions of 49 U.S.C. Sections 412 and 414. Answers may be filed within 21 days after the filing of the application

Docket Number: OST-2000-7385.

Date Filed: May 17, 2000.

Parties: Members of the International Air Transport Association.

Subject:

PTC2 EUR 0309 dated 2 May 2000 r1-r17;

PTC2 EUR 0310 dated 2 May 2000 r18;

PTC2 EUR 0311 dated 2 May 2000 r19-r20;

PTC2 EUR 0312 dated 2 May 2000 r21-r22;

Within Europe Resolutions r1-r22;

Minutes—PTC2 EUR 0308 dated 28 April 2000;

Tables—None;

Intended effective date: 15 June, 1 August, 1 September, 1 October 2000.

Dorothy Y. Beard,
Federal Register Liaison.

[FR Doc. 00-13360 Filed 5-26-00; 8:45 am]

BILLING CODE 4910-62-P